SMALL BUSINESS ADMINISTRATION

Data Collection Available for Public Comments

ACTION: 60 Day Notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before December 22, 2015.

ADDRESSES: Send all comments to Brenda Washington, Senior Program Analyst, HUBZone, Small Business Administration, 395 E Street SW., Patriot Plaza, Washington, DC 20416.

FOR FURTHER INFORMATION CONTACT: Brenda Washington, Senior Analyst, 202-205-7663 brenda.washington@sba.gov Curtis B. Rich, Management Analyst, 202-205-7030 curtis.rich@sba.gov.

SUPPLEMENTARY INFORMATION: The collected information is submitted by small business concerns seeking certification as a qualified HUBZone small business. SBA uses the information to verify a concern's eligibility for the HUBZone programs, to complied a database of qualified small business concerns, as well as for the re-certification and examination of certified HUBZone small business concerns. Finally SBA uses the information to prepare reports for the Executive and legislative branches.

Title: “HUBZone Program Electronic Application, Re-certification and Program Examination”.

Description of Respondents: Small business concerns seeking certification as a qualified HUBZone.

Form Number: N/A.

Annual Responses: 5,230.

Annual Burden: 13,290.

Curtis Rich,
Management Analyst.

[FR Doc. 2015-26893 Filed 10-22-15; 8:45 am]

BILLING CODE P